DEPARTMENT OF COMMERCE

National Oceanic and Atmospheric Administration

50 CFR Part 216

[Docket No. 170803723-8016-01]

RIN 0648-BH09

Technical Amendment To Update Internet Web Addresses in Marine Mammal Protection Act and Dolphin Protection Consumer Information Act Regulations

AGENCY: National Marine Fisheries Service (NMFS), National Oceanic and Atmospheric Administration (NOAA), Commerce.

ACTION: Final rule; technical amendments.

SUMMARY: NMFS is hereby making technical amendments without altering the substance of the regulations that govern importation into the United States of tuna product and dolphin-safe tuna labeling in the United States under the Marine Mammal Protection Act (MMPA), and the Dolphin Protection Consumer Information Act (DPCIA). The intent of this action is to update existing regulations containing Uniform Resource Locator (URL) addresses, more commonly referred to as internet web page addresses. The URL updates are necessary because NMFS is revising all agency URLs under the NOAA Fisheries Web Modernization Project. These changes are solely administrative in nature.

DATES: This final rule is effective January 26, 2018.

ADDRESSES: 501 West Ocean Boulevard, Suite 4200, Long Beach, CA 90802.

FOR FURTHER INFORMATION CONTACT: William Jacobson, NMFS West Coast Region, 562-980-4035.

SUPPLEMENTARY INFORMATION:

Background

Regulations at 50 CFR 216.24(f)(3) and 50 CFR part 216, subpart H contain URLs that provide importers, tuna processors, and fishermen that harvest tuna for the U.S. market, access to information critical to regulatory compliance. NMFS is undergoing an agency-wide modification of the naming convention used in all existing URLs. Failure to change the URLs in the regulatory text would render the URL references in the regulations unusable, confusing the regulated public.

Classification

The NMFS Assistant Administrator has determined that this final rule is consistent with the MMPA, the DPCIA, and other applicable laws.

Administrative Procedure Act

NOAA finds good cause under 5 U.S.C. 553(b)(B) and 553(d)(3) to issue this final rule without advance notice in a proposed rule or the opportunity for public comment, and to make the rule effective immediately without providing a 30-day delay, because the content of this rule makes a technical correction and does not affect the substance of regulations that affect the public. Public input is not necessary to determine the correct URL, and delaying codification of the correct URL would not be in the public interest.

Executive Order 12866

This final rule has been determined to be not significant for purposes of Executive Order 12866.

List of Subjects in 50 CFR Part 216

Administrative practice and procedure, Fish, Imports, Labeling, Marine mammals.

Dated: January 19, 2018.
Samuel D. Rauch, III,
Deputy Assistant Administrator for Regulatory Programs, National Marine Fisheries Service.

For the reasons set out in the preamble, 50 CFR part 216 is amended as follows:

PART 216—REGULATIONS GOVERNING THE TAKING AND IMPORTING OF MARINE MAMMALS

1. The authority citation for 50 CFR part 216 continues to read as follows:

Authority: 16 U.S.C. 1361 et seq., unless otherwise noted.

Subpart C—General Exceptions

2. In § 216.24, revise introductory text of paragraph (f)(3) to read as follows:

§ 216.24 Taking and related acts incidental to commercial fishing operations by tuna purse seine vessels in the eastern tropical Pacific Ocean.

* * * * *

(f) * * *

(3) Disposition of Fisheries Certificates of Origin. The FCO described in paragraph (f)(4) of this section may be obtained from the Administrator, West Coast Region, or downloaded from the internet at https://www.fisheries.noaa.gov/national/marine-mammal-protection/noaa-form-370-fisheries-certificate-origin.

* * * * *

Subpart H—Dolphin Safe Tuna Labeling

3. The authority citation for 50 CFR part 216, subpart H, continues to read as follows:

Authority: 16 U.S.C. 1385.

4. In § 216.91, revise paragraph (a)(3)(iii)(B), introductory text of paragraph (a)(3)(iv), and introductory text of paragraph (a)(3)(v) to read as follows:

§ 216.91 Dolphin-safe labeling standards.

(a) * * *

(3) * * *

(iii) * * *

(B) The Captain of the vessel has completed the NMFS Tuna Tracking and Verification Program dolphin-safe captain's training course. The NMFS Tuna Tracking and Verification Program dolphin-safe captain's training course is available on the website of the NMFS Tuna Tracking and Verification Program at https://www.fisheries.noaa.gov/dolphin-safe.

(iv) For tuna caught in a fishery where the Assistant Administrator has determined that observers participating in a national or international observer program are qualified and authorized to issue observer statements for purposes of the dolphin-safe labeling program, and where such an observer is on board the vessel, a written statement executed by the observer, or by an authorized representative of a nation participating in the observer program based on information from the observer. Any determination by the Assistant Administrator shall be announced in a notice published in the Federal Register. Determinations under this paragraph (a)(3)(iv) will also be publicized on the website of the NMFS Tuna Tracking and Verification Program (https://www.fisheries.noaa.gov/dolphin-safe). The written statement shall certify:

* * * * *

(v) For tuna caught in a fishery in which the Assistant Administrator has determined that either a regular and significant association between dolphins and tuna (similar to the association between dolphins and tuna in the ETP) or a regular and significant mortality or serious injury of dolphins is occurring, a written statement, executed by the Captain of the vessel and an observer participating in a national or international program acceptable to the Assistant Administrator, unless the Assistant Administrator determines an observer statement is unnecessary. Determinations under this paragraph (a)(3)(v) will also be publicized on the website of the NMFS Tuna Tracking and Verification Program (https://www.fisheries.noaa.gov/dolphin-safe). The written statement shall certify that:

* * * * *

5. In § 216.95, revise paragraph (b) to read as follows:

§ 216.95 Official mark for “Dolphin-safe” tuna products.

* * * * *

(b) Location and size of the official mark. The official mark on labels must allow the consumer to identify the official mark and be similar in design and scale to figure 1. A full color version of the official mark is available at https://www.fisheries.noaa.gov/national/marine-mammal-protection/dolphin-safe-official-mark.

[FR Doc. 2018-01375 Filed 1-25-18; 8:45 am]

BILLING CODE 3510-22-P